DEPARTMENT OF THE INTERIOR

Fish and Wildlife Service

50 CFR Part 17

[Docket No. FWS-HQ-ES-2013-0107;450 003 0115]

Endangered and Threatened Wildlife and Plants; 90-Day Finding on a Petition To List 11 Tarantula Species in the Genus Poecilotheria as Endangered or Threatened

AGENCY: Fish and Wildlife Service, Interior.

ACTION: Notice of petition finding and initiation of status review.

SUMMARY: We, the U.S. Fish and Wildlife Service (Service), announce a 90-day finding on a petition to list 11 tarantula species in the genus Poecilotheria as endangered or threatened species under the Endangered Species Act of 1973, as amended (Act). Based on our review, we find that the petition presents substantial scientific and commercial information indicating that listing these species may be warranted. Therefore, with the publication of this notice, we are initiating a review of the status of these species to determine if listing these 11 species is warranted. To ensure that this status review is comprehensive, we request scientific and commercial data and other information regarding these species. At the conclusion of this review, we will issue a 12-month finding on the petition, as provided in section 4(b)(3)(B) of the Act.

DATES: To allow us adequate time to conduct this review, we request that we receive information on or before February 3, 2014. After this date, you must submit information directly to the office listed in the FOR FURTHER INFORMATION CONTACT section below. Please note that we may not be able to address or incorporate information that we receive after the above requested date.

ADDRESSES: You may submit information by one of the following methods:

• Electronically: Go to the Federal eRulemaking Portal: http://www.regulations.gov. In the Search field, enter Docket No. FWS-HQ-ES-2013-0107, which is the docket number for this action. Then click on the Search button. You may submit information by clicking on “Comment Now!” If your information will fit in the provided comment box, please use this feature of http://www.regulations.gov, as it is most compatible with our information review procedures. If you attach your information as a separate document, our preferred file format is Microsoft Word. If you attach multiple pieces of information, our preferred format is a spreadsheet in Microsoft Excel.

• By hard copy: U.S. mail or hand-delivery: Public Comments Processing, Attn: FWS-HQ-ES-2013-0107, Division of Policy and Directives Management; U.S. Fish and Wildlife Service; 4401 N. Fairfax Drive, MS 2042-PDM; Arlington, VA 22203.

We will not accept information by email or fax. We will post all information on http://www.regulations.gov. This generally means that we will post any personal information you provide us (see the Information Requested section, below, for more information).

FOR FURTHER INFORMATION CONTACT: Janine Van Norman, Chief, Branch of Foreign Species, Endangered Species Program, U.S. Fish and Wildlife Service, 4401 N. Fairfax Drive, Room 420, Arlington, VA 22203; telephone 703-358-2171; facsimile 703-358-1735. If you use a telecommunications device for the deaf (TDD), call the Federal Information Relay Service (FIRS) at 800-877-8339.

SUPPLEMENTARY INFORMATION:

Information Requested

For the status review to be complete and based on the best available scientific and commercial information, we request information on 11 Poecilotheria species (see list in Table 1, below) from government agencies (including foreign national and provincial governments within the range of each of these species), the scientific community, industry, and any other interested parties. We seek information on:

(1) Each species' biology, range, and population trends, including:

(a) Habitat requirements for feeding, breeding, and sheltering;

(b) Genetics and taxonomy;

(c) Historical and current range, including distribution patterns;

(d) Historical and current population levels, and current and projected population trends;

(e) Potential threats to each species, such as harvest, domestic and foreign trade, habitat destruction, intentional killing, or other threats not identified; and

(f) Past and ongoing conservation measures for each species or its habitat.

(2) The factors that are the basis for making a listing determination for a species or subspecies under section 4(a) of the Act (16 U.S.C. 1531 et seq.), which are:

(a) The present or threatened destruction, modification, or curtailment of their habitat or range;

(b) Overutilization for commercial, recreational, scientific, or educational purposes;

(c) Disease or predation;

(d) The inadequacy of existing regulatory mechanisms; or

(e) Other natural or manmade factors affecting each species' continued existence.

(3) The potential effects of climate change on each species and its habitat.

Please include sufficient information with your submission (such as full references) to allow us to verify any scientific or commercial information you include. Submissions merely stating support for or opposition to the action under consideration without providing supporting information, although noted, will not be considered in making a determination. Section 4(b)(1)(A) of the Act directs that determinations as to whether any species is an endangered or threatened species must be made “solely on the basis of the best scientific and commercial data available.”

You may submit your information concerning this status review by one of the methods listed in the ADDRESSES section. If you submit information via http://www.regulations.gov, your entire submission—including any personal identifying information—will be posted on the Web site. If you submit a hard copy that includes personal identifying information, you may request at the top of your document that we withhold this personal identifying information from public review. However, we cannot guarantee that we will be able to do so. We will post all hard copy submissions on http://www.regulations.gov.

Information and supporting documentation that we received and used in preparing this finding will be available to review at http://www.regulations.gov, or you may make an appointment during normal business hours at the U.S. Fish and Wildlife Service, Endangered Species Program, Branch of Foreign Species (see FOR FURTHER INFORMATION CONTACT).

Evaluation of Information for a 90-Day Finding on a Petition

Section 4 of the Act (16 U.S.C. 1533) and its implementing regulations at 50 CFR part 424 set forth the procedures for adding a species to, or removing a species from, the Federal Lists of Endangered and Threatened Wildlife and Plants. A species may be determined to be an endangered or threatened species due to one or more of the five factors described in section 4(a)(1) of the Act:

(A) The present or threatened destruction, modification, or curtailment of its habitat or range;

(B) Overutilization for commercial, recreational, scientific, or educational purposes;

(C) Disease or predation;

(D) The inadequacy of existing regulatory mechanisms; or

(E) Other natural or manmade factors affecting its continued existence.

In making this 90-day finding, we evaluated whether information regarding threats to each species, as presented in the petition and other information available in our files, is substantial, thereby indicating that the petitioned action may be warranted. Our evaluation of this information is presented in Appendix A. in Docket No. FWS-HQ-ES-2013-0107 on http://www.regulations.gov.

Background

Section 4(b)(3)(A) of the Act requires that we make a finding on whether a petition to list, delist, or reclassify a species presents substantial scientific or commercial information indicating that the petitioned action may be warranted. We are to base this finding on information provided in the petition, supporting information submitted with the petition, and information otherwise available in our files. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly initiate a species status review, which we subsequently summarize in our 12-month finding.

Petition History

We received a petition, dated October 29, 2010, from WildEarth Guardians requesting that the following 11 eastern hemisphere “tarantuala” species in the genus Poecilotheria be listed under the Act as endangered or threatened: Poecilotheria fasciata; P. formosa; P. hanumavilasumica; P. metallica; P. miranda; P. ornata; P. pederseni; P. rufilata; P. smithi; P. striata; and P. subfusca (see Table 1 for common names associated with each of these species). The petition clearly identified itself as such and included the requisite identification information for the petitioner, as required by 50 CFR 424.14(a). This finding addresses the petition.

Evaluation of Petition

The 11 species named in the petition include six species native to India and five native to Sri Lanka (Table 1). All 11 species named in the petition have multiple common names (Table 1) and are therefore referred to by their scientific names throughout this finding.

Table 1—List of Species in This 90-Day Finding
Species | Common name(s) | Current range
Poecilotheria fasciata | banded parachute spider, Sri Lankan ornamental tarantula, lemon-legged tiger spider, Thada kaha iri padethi divimakuluwa | Sri Lanka.
Poecilotheria formosa | beautiful parachute spider, finely formed parachute spider, Salem ornamental tarantula | India.
Poecilotheria hanumavilasumica | Rameshwaram parachute spider, Rameshwaram ornamental | India.
Poecilotheria metallica | peacock parachute spider, Gooty ornamental tarantula, Gooty tarantula, metallic tarantula, peacock tarantula, Salepurgu | India.
Poecilotheria miranda | wonderful parachute spider, red parachute spider | India.
Poecilotheria ornata | ornate parachute spider, fringed ornamental tarantula, yellow-legged tiger spider, Kaha iri padethi divimakuluwa | Sri Lanka.
Poecilotheria pederseni | Hambantota parachute spider, Pederseni's tiger spider, Pederseni divimakuluwa | Sri Lanka.
Poecilotheria rufilata | reddish parachute spider, rufus parachute spider, redslate ornamental tarantula | India.
Poecilotheria smithi | Kandy parachute spider, Smith's tiger spider, Sithge divimakuluwa | Sri Lanka.
Poecilotheria striata | striped parachute spider, striated parachute spider, Mysore ornamental tarantula | India.
Poecilotheria subfusca | brown parachute spider, ivory ornamental tarantula, ivory bird-eating tarantula, Eth dala peha iri padethi divimakuluwa | Sri Lanka.

Poecilotheria is a genus of very large, ornate spiders that occur in northeastern and southern India and central and southern Sri Lanka (Petition, p. 1). Poecilotheria species are arboreal and occur in mesic and xeric montane forests where they are generally found under the bark or in natural cavities of trees. Of the 11 species named in the petition, P. fasciata occurs in xeric forests. The remaining 10 species occur in mesic forests (Petition, p. 8). Poecilotheria species appear to differ in their tolerance of altered habitat (Petition, p. 9). The primary factors indicated in the petition as causing these species to face extinction or endangerment include destruction of forest habitat, collection for the pet trade, intentional killing, inadequate regulatory mechanisms, range restrictions and rarity, and cumulative threats.

Information provided in the petition and in the references cited in the petition regarding current ranges and population trends is summarized below.

Indian Species

P. formosa: This species is reported from three sites in two areas of the southern Eastern Ghats in southern India. Population information is not available. Based on the ecology and behavior of other closely related Poecilotheria species, and current threats, the population is assumed to be decreasing. The species is categorized on the International Union for the Conservation of Nature (IUCN) Red List as Endangered (Molur et al. 2008b).

P. hanumavilasumica: This species is endemic to the Ramanthapuram district, southern India, where it is restricted to a few plantations. The species has been recorded from eight subpopulations that vary in size from 4 to 78 individuals. The species' population is reported to be decreasing. It is categorized on the IUCN Red List as Critically Endangered (Siliwal et al. 2008a).

P. metallica: This species is known from a single location in Andhra Pradesh, India. It is described as likely being very rare. Population information is not available, but the population is assumed to be decreasing. The species is categorized on the IUCN Red List as Critically Endangered (Molur et al. 2008a).

P. miranda: The species is recorded from only a few locations in the Chhota Nagpur region of northeast India. Population information is not available, but the species is described as rare. The population is assumed to be decreasing. The species is categorized on the IUCN Red List as Endangered (Siliwal et al. 2008b; IUCN 2001, pp. 18-20).

P. rufilata: The species is endemic to the southern Western Ghats, in southern India. The species is reported from six isolated locations. Population information is not available, but the species is assumed to be decreasing. It is categorized on the IUCN Red List as Endangered (Siliwal et al. 2008c; IUCN 2001, pp. 18-20).

P. striata: The species is found in the Western Ghats just north and south of the Palghat gap, in southern India. It has been reported from fewer than 10 isolated locations, with spider abundance varying depending on the habitat. Population information is not available. The species is categorized on the IUCN Red List as Vulnerable (Siliwal et al. 2008d; IUCN 2001, pp. 21-22).

Sri Lankan Species

P. fasciata: Historically the species is known from eight locations in central Sri Lanka (Petition, p. 6, citing several sources). In a 2003-2005 survey of Sri Lankan Poecilotheria, three individuals of this species were recorded in central Sri Lanka. One individual was recorded in Kurunagala, and one individual was recorded at each of two different sites in Naula (Samarawckrama et al. 2005, pp. 76, 83).

P. ornata: Historically the species is known from five locations in southern Sri Lanka (Petition, p. 7, citing several sources). In a 2003-2005 survey of Sri Lankan Poecilotheria, six individuals of this species were recorded in central and southern Sri Lanka. One individual was recorded in Kitulgala Forest Reserve (in Central Province), two individuals were recorded in Udamaliboda, Deraniyagala (in Sabaragamuwa Province), and three individuals were recorded in Sinharaja World Heritage Site (in Southern Province) (Samarawckrama et al. 2005, pp. 76, 83). IUCN Sri Lanka (2007, p. 131) categorizes this species as “near threatened,” that is, it is very close to qualifying for or is likely to qualify for a threatened category in the near future.

P. pederseni: Historically the species is known only from its type locality in Hambantota District (in Southern Province) (Petition, p. 7, citing several sources). In a 2003-2005 survey of Sri Lankan Poecilotheria, six individuals of this species were recorded in Hambantota. Three were recorded from Bundala National Park, and three from Madunagala Sanctuary (Samarawckrama et al. 2005, pp. 76, 83).

P. smithi: The species is known only from two locations in south central Sri Lanka—Haragama and Kandy (Petition, p. 7, citing several sources). In a 2003-2005 survey of Sri Lankan Poecilotheria, no P. smithi were recorded (Samarawckrama et al. 2005, pp. 76, 83). IUCN Sri Lanka (2007, p. 48) categorizes this species as vulnerable.

P. subfusca: Historically the species is known from seven locations in south-central Sri Lanka (Petition, p. 7, citing several sources). In a 2003-2005 survey of Sri Lankan Poecilotheria, 20 individuals of this species were recorded in central Sri Lanka: One each from Dotulugala reserve and Gannoruwa Village, Kandy (in Central Province); and 18 in Gannoruwa forest, though 15 of the 18 were juveniles. IUCN Sri Lanka (2007, p. 131) categorizes this species as “near threatened,” that is, it is very close to qualifying for or is likely to qualify for a threatened category in the near future.

In results of a survey of the genus in Sri Lanka, Samarawckrama et al. (2005, p. 76) indicate that they consider the five Sri Lankan Poecilotheria species to be endangered.

Finding

On the basis of our review under section 4(b)(3)(A) of the Act, we determine that the petition presents substantial scientific or commercial information indicating that listing these 11 Poecilotheria species as endangered or threatened may be warranted. This finding is based on information provided in the petition regarding the five factors: The present or threatened destruction, modification, or curtailment of its habitat or range (Factor A); overutilization for commercial, recreational, scientific, or educational purposes (Factor B); disease and predation (Factor C); the inadequacy of existing regulatory mechanisms (Factor D); and other natural or manmade factors affecting the species' continued existence (Factor E).

Based on information provided in the petition, in the sources cited in the petition, and readily available in our files, we find that the petition presents substantial information indicating that the petitioned action may be warranted for all 11 petitioned species as a result of habitat destruction or degradation through impacts associated with human activities (Factor A), collection for the pet trade (Factor B), small populations or limited and fragmented range (Factor E), and the cumulative impacts of threats (Factors E). Further, we find that the petitioned action may be warranted for P. formosa, P. hanumavilasumica, P. rufilata, and P. striata as a result of the threat of intentional killing (Factor E), and for P. fasciata, P. ornata, P. pederseni, P. smithi, and P. subfusca as a result of the inadequacy of existing regulatory mechanisms (Factor D).

Because we have found that the petition presents substantial information indicating that listing these 11 Poecilotheria species may be warranted, we are initiating a status review to determine whether listing these 11 species under the Act as endangered or threatened species is warranted.

The “substantial information” standard for a 90-day finding differs from the Act's “best scientific and commercial data” standard that applies to a 12-month finding as to whether a petitioned action is warranted. A 90-day finding is not a status assessment of the species and does not constitute a status review under the Act. Our final determination as to whether a petitioned action is warranted is not made until we have completed a thorough status review of the species, which is conducted following a 90-day finding that a petition presents substantial scientific or commercial information indicating that the petitioned action may be warranted (“substantial 90-day finding”). Because the Act's standards for 90-day and 12-month findings are different, as described above, a substantial 90-day finding does not necessarily mean that the 12-month finding will result in a warranted finding.

References Cited

A complete list of all references cited in this 90-day finding is available on the Internet at http://www.regulations.gov at Docket No. FWS-HQ-ES-2013-0107 or upon request from the Branch of Foreign Species, Endangered Species Program, U.S. Fish and Wildlife Service (see FOR FURTHER INFORMATION CONTACT).

Author

The primary author of this finding is staff of the Branch of Foreign Species, Endangered Species Program, U.S. Fish and Wildlife Service.

Authority

The authority for this action is the Endangered Species Act of 1973, as amended (16 U.S.C. 1531 et seq.).

Dated: November 13, 2013.
Steve Guertin,
Acting Director, U.S. Fish and Wildlife Service.

[FR Doc. 2013-28553 Filed 12-2-13; 8:45 am]

BILLING CODE 4310-55-P